DEPARTMENT OF THE INTERIOR

Bureau of Indian Affairs

[201A2100DD/AAKC001030/A0A51010.999900]

Land Acquisitions; Three Affiliated Tribes of the Fort Berthold Reservation, North Dakota

AGENCY: Bureau of Indian Affairs, Interior.

ACTION: Notice.

SUMMARY: The Assistant Secretary—Indian Affairs has made a final determination to acquire 9,303.79 acres, more or less, into trust for the Three Affiliated Tribes of the Fort Berthold Reservation, North Dakota.

DATES: This determination was made on May 22, 2019.

FOR FURTHER INFORMATION CONTACT: Ms. Sharlene M. Round Face, Bureau of Indian Affairs, Division of Real Estate Services, 1001 Indian School Road NW, Albuquerque, NM 87104, telephone (505) 563-3132, Sharlene.roundface@bia.gov.

SUPPLEMENTARY INFORMATION: This notice is published in the exercise of authority delegated by the Secretary of the Interior to the Assistant Secretary—Indian Affairs by part 209 of the Departmental Manual, and is published to comply with the requirement of 25 CFR 151.12(c)(2)(ii) that notice of the decision to acquire land in trust be promptly published in the Federal Register.

On May 22, 2019, the Assistant Secretary—Indian Affairs issued a decision to accept land in trust for the Three Affiliated Tribes of the Fort Berthold Reservation, North Dakota under the authority of Section 5 of the Indian Reorganization Act of 1934 (48 Stat. 984).

Three Affiliated Tribes of the Fort Berthold Reservation, North Dakota Dunn and McKenzie Counties, North Dakota Legal Description Containing 9,303.79 Acres, More or Less

Dunn County

Township 148 North, Range 95 West, 5th P.M.

Section 4: Lots 1, 2, 3, 4, 5, S½NW¼ and SW¼

Section 5: Lots 1, 2, 3, 4, S½N½, S½

Section 6: Lots 1, 2, 3, 4, 5, 6, 7, S½NE¼, SE¼NW¼, NE¼SW¼, SE¼, SE¼SW¼

Section 7: Lots 2, 3, 4, N½NE¼, SE¼NE¼, E½SW¼, N½SE¼, SW¼SE¼, Lot 1, E½NW¼, SW¼NE¼

Section 8: N½S½, SE¼SE¼

Section 9: Lot 4, S½SW¼, NE¼NW¼

Section 17: SW¼NW¼, N½SW¼, SE¼SW¼

Section 18: Lots 1, 3, 4, S½NE¼, NW¼NE¼, E½NW¼, S½SE¼, NE¼SE¼

Section 19: NW¼, Lots 3, 4, E½SW¼, N½NE¼, SW¼NE¼, SE¼

Section 20: SW¼SW¼

Section 28: Lots 3, 4, E½SW¼, SW¼SW¼

Section 29: SE¼SW¼, S½SE¼, N½SW¼SW¼, W½NW¼, NW¼SW¼, less lands taken by the United States of America, and less a tract of land situated in the SE¼SW¼ more particularly described as follows: Beginning at a point on the south line of said section 29, said point being 3,301.65 feet west of southeast corner of said section 29, thence westerly along the said south line, 658.35 feet; thence north, 400.00 feet, thence east 300.00 feet, thence southeasterly to the point of beginning.

Section 30: Lot 4, E½NE¼, NE¼SE¼, SW¼SE¼, SE¼SW¼

Section 30: Lot 5, less a tract more particularly described as follows: Beginning at the southeast corner of lot 5, thence westerly along the south line of said lot 5,732.95 feet thence northeasterly to a point 455.08 feet north and 400.00 feet west of the said southeast corner, thence easterly parallel with the said south line to the east line of said lot 5; thence southerly along the said east line to the point of beginning.

Section 31: Lot 3, NE¼NW¼

Section 32: NE¼NE¼NW¼, N½N½NE¼, being parts of Lots 1, 2, and 3, less a tract of land in lot 3, more particularly described as follows: Beginning at a point 660.00 feet south and 3,100.00 feet west of the northeast corner of said section 32, thence west 200.00 feet, thence north, to the north line of said lot 3, thence southeasterly to the point of beginning.

Section 33: Lot 1, N½NW¼

Township 148 North, Range 96 West, 5th P.M.

Section 1: Lots 1, 2, 3, S½NE¼, S½

Section 2: SE¼NE¼, NE¼SE¼

Section 12: NE¼, NW¼SE¼, E½NW¼, SW¼NW¼, E½SE¼, SW¼SE¼, SW¼, NW¼NW¼

Section 13: SE¼NE¼, NE¼SE¼, NW¼, N½NE¼, SW¼NE¼, S½SW¼, NE¼SW¼, S½SE¼, NW¼SE¼

Section 14: SE¼SE¼

Section 23: N½NE¼, SE¼NE¼, S½SE¼

Section 24: NW¼, E½SW¼, NW¼SW¼, W½NE¼, W½SE¼, E½SE¼, SW¼SW¼

Section 25: E½NW¼, N½NE¼, Lots 1, 2, W½NW¼, N½SW¼, SW¼SW¼, NW¼SE¼, E½SE¼

Section 26: Lots 5, 6, 10, N½NE¼, SE¼NE¼

McKenzie County

Township 149 North, Range 95 West

Section 25: Lot 4

Section 26: SE¼SE¼

Section 33: S½

Section 34: S½, less all that portion of the S½SE¼ of said section 34, lying within a strip of land, said strip being 80 feet wide, lying 40 feet on each side of the following described center line: Beginning at a point on the east line of the said S½SE¼ of section 34, 305.2 feet from the SE corner thereof, said point being on the centerline of the state highway as surveyed and staked over and across the said S½SE¼, section 34, thence running S 25°31′ W 339.8 feet to the south line of the said S½SE¼, section 34, excepting all that portion lying within 33 feet of the section line.

Section 35: S½, less all that portion of the SW¼ of said section 35, lying within a strip of land, said strip being 80 feet wide, lying 40 feet on each side of the following described center line: Beginning at a point on the west line of the said SW¼ of Section 35, 305.2 feet from the SW corner thereof, said point being on the center line of the state highway as surveyed and staked over and across the said SW¼ of Section 35, thence running N 25°31′ E 315 feet, excepting all that portion lying within 33 feet of a section line.

Section 35: NE¼

Better described as:

Dunn County

Township 148 North, Range 95 West, 5th Principal Meridian

Section 4: Lots 1, 2, 3, 4, 5, S½NW¼, and SW¼

Section 5: ALL

Section 6: ALL

Section 7: Lots 2, 3, 4, N½NE¼, SE¼NE¼, E½SW¼, N½SE¼, SW¼SE¼, Lot 1, E½NW¼, SW¼NE¼

Section 8: N½S½, SE¼SE¼

Section 9: Lot 4, S½SW¼, NE¼NW¼

Section 17: SW¼NW¼, N½SW¼, SE¼SW¼

Section 18: Lots 1, 3, 4, S½NE¼, NW¼NE¼, E½NW¼, S½SE¼, NE¼SE¼

Section 19: NW¼, Lots 3, 4, E½SW¼, N½NE¼, SW¼NE¼, SE¼

Section 20: SW¼SW¼

Section 28: Lots 3, 4, E½SW¼, SW¼SW¼

Section 29: S½SE¼, W½NW¼, NW¼SW¼, LOT 1 and the SE¼SW¼ EXCEPT a tract of land described as follows: Beginning at the Southwest corner of Section 29, thence north on the West line of Lot 1 a distance of 662.13 feet, thence N 89°53′25″ E on an assumed bearing a distance of 1317.08 feet to the East line of Lot 1, thence S 0°08′33″ E on said East line of Lot 1 for distance of 261.6 feet, thence N 89°52′02″ E a distance of 300 feet, thence Southeasterly to a point on the South line of Section 29, said point being 658.35 feet easterly of the W1/16 corner common to sections 29 and 32, thence S 89°52′02″ W a distance of 658.35 feet to said W1/16 corner, thence continue S 89°52′02″ W on the Section line a distance of 1316.70 feet to the point of beginning.

Section 30: Lot 4, E½NE¼, NE¼SE¼, SW¼SE¼, SE¼SW¼, Lot 5 EXCEPT a tract more particularly described as follows: Beginning at the Southeast corner of Lot 5, thence North on the East line of Lot 5 a distance of 455.08 feet, thence westerly parallel to the South line of Lot 5 a distance of 400 feet, thence southwesterly to a point on the South line of Lot 5, said point being 732.95 feet westerly of the Southeast corner of Lot 5, thence East along the South line of Lot 5 a distance of 732.95 feet, to the point of beginning.

Section 31: Lot 3, NE¼NW¼

Section 32: A portion of Lots 1, 2 and 3, more particularly described as follows: Beginning at the Northeast corner of Section 32, thence S 0°31′31″ E on an assumed bearing on the East section line a distance of 660.00 feet, thence S 89°50′38″ W a distance of 3100.00 feet, thence northwesterly to a point on the North line of Section 32, said point being located 3300 feet westerly of the Northeast corner of Section 32, thence N 89°52′02″ E on the north line of Section 32 a distance of 3300.00 feet, to the point of beginning.

Section 33: Lot 1, N½NW¼

Township 148 North, Range 96 West, 5th Principal Meridian

Section 1: Lots 1, 2, 3, S½NE¼, S½

Section 2: SE¼NE¼, NE¼SE¼

Section 12: ALL

Section 13: SE¼NE¼, NE¼SE¼, NW¼, N½NE¼, SW¼NE¼, S½SW¼, NE¼SW¼, S½SE¼, NW¼SE¼

Section 14: SE¼SE¼

Section 23: N½NE¼, SE¼NE¼, S½SE¼

Section 24: NW¼, E½SW¼, NW¼SW¼, W½NE¼, W½SE¼, E½SE¼, SW¼SW¼

Section 25: E½NW¼, N½NE¼, Lots 1, 2, W½NW¼, N½SW¼, SW¼SW¼, NW¼SE¼, E½SE¼

Section 26: Lots 5, 6, 10, N½NE¼, SE¼NE¼

McKenzie County

Township 149 North, Range 95 West, 5th Principal Meridian

Section 25: Lot 4

Section 26: SE¼SE¼

Section 33: S½

Section 34: S½ SUBJECT TO a road right of way for McKenzie County Road #53, said right of way being 80 feet wide, lying 40 feet on each side of the centerline of said county road.

Section 35: NE¼ and the S½ SUBJECT TO a road right of way for McKenzie County Road #53, said right of way being 80 feet wide, lying 40 feet on each side of the centerline of said county road.

Property contains 9,303.79 surface acres, more or less.

Tara Sweeney,
Assistant Secretary—Indian Affairs.

[FR Doc. 2020-22088 Filed 10-5-20; 8:45 am]

BILLING CODE 4337-15-P